DEPARTMENT OF COMMERCE

International Trade Administration

A-570-827

Certain Cased Pencils from the People's Republic of China: Final Results of Antidumping Duty Administrative Review

AGENCY: Import Administration, International Trade Administration, Department of Commerce.

SUMMARY: The Department of Commerce (“the Department”) published its preliminary results of administrative review of the antidumping duty order on certain cased pencils from the People's Republic of China (“PRC”) on December 7, 2006.¹ The period of review (“POR”) is December 1, 2004, through November 30, 2005. We invited interested parties to comment on our Preliminary Results. Based on our analysis of the comments received, we made certain changes to our calculations. The final dumping margins for this review are listed in the “Final Results of Review” section below.

¹ See Certain Cased Pencils from the People's Republic of China; Preliminary Results of Antidumping Duty Administrative Review, 71 FR 70949 (December 7, 2006) (“Preliminary Results”).

EFFECTIVE DATE: May 14, 2007.

FOR FURTHER INFORMATION CONTACT: Magd Zalok or Drew Jackson, AD/CVD Operations, Office 4, Import Administration, International Trade Administration, U.S. Department of Commerce, 14th Street and Constitution Avenue, NW, Washington, DC 20230; telephone: (202) 482-4162 or (202) 482-4406, respectively.

SUPPLEMENTARY INFORMATION:

Background

In response to requests by the petitioners,² and several exporter/producers, on February 1, 2006, the Department initiated this administrative review with respect to the following companies: Beijing Dixon Stationery Company Ltd. (“Dixon”), Orient International Holding Shanghai Foreign Trade Co., Ltd. (“OIHSFTC”), Shandong Rongxin Import and Export Co., Ltd. (“Shandong Rongxin”), Tianjin Custom Wood Processing Co., Ltd. (Tianjin), and China First Pencil Company, Ltd. and its affiliates, China First Pencil Fang Zheng Co., Shanghai First Writing Instrument Co., Ltd., Shanghai Great Wall Pencil Co., Ltd. (collectively “CFP”), and Shanghai Three Star Stationery Industry Corp. (“Three Star”³).⁴ On August 10, 2006, the Department rescinded the instant review with respect to OIHSFTC and Tianjin.⁵

² The petitioners include Sanford L.P., Musgrave Pencil Company, RoseMoon Inc., and General Pencil Company (collectively “the petitioners”).

³ Consistent with prior reviews in this proceeding, the Department has treated CFP and Three Star as a single entity (“CFP-Three Star”). See e.g., Certain Cased Pencils from the People's Republic of China; Final Results and Partial Rescission of Antidumping Duty Administrative Review, 67 FR 48612, 48613 (July 25, 2002). This treatment has been upheld by the Court of International Trade. See China First Pencil Co. Ltd. v. United States, 427 F. Supp 2d 1236 (March 7, 2006).

⁴ See Initiation of Antidumping and Countervailing Duty Administrative Reviews and Request for Revocation in Part, 71 FR 5241 (February 1, 2006).

⁵ See Certain Cased Pencils from the People's Republic of China: Notice of Partial Rescission of Antidumping Duty Administrative Review, 71 FR 47169 (August 16, 2006).

On December 7, 2006, the Department published the Preliminary Results of this review in the Federal Register. The following events occurred after the Department published the Preliminary Results. In response to a supplemental questionnaire, CFP-Three Star submitted additional factual information to the Department on December 15, 2006. In response to an invitation to comment on the Preliminary Results, the petitioners, CFP-Three Star, and Dixon submitted case briefs to the Department on January 22, 2007. The petitioners and CFP-Three Star submitted rebuttal briefs to the Department on January 29, 2007. During January 2007, the petitioners, CFP-Three Star, and Dixon filed additional surrogate information with the Department. On February 2, 2007, the Department gave interested parties an opportunity to comment on the most recently calculated wage rate posted on the Department's website. CFP-Three Star responded to this opportunity by submitting comments to the Department on February 7, 2007.

We have conducted this administrative review in accordance with Section 751 of the Tariff Act of 1930, as amended (“the Act”), and 19 CFR 351.213.

Period of Review

The POR is December 1, 2004, through November 30, 2005.

Scope of the Order

Imports covered by this order are shipments of certain cased pencils of any shape or dimension (except as described below) which are writing and/or drawing instruments that feature cores of graphite or other materials, encased in wood and/or man-made materials, whether or not decorated and whether or not tipped (e.g., with erasers, etc.) in any fashion, and either sharpened or unsharpened. The pencils subject to the order are currently classifiable under subheading 9609.10.00 of the Harmonized Tariff Schedule of the United States (“HTSUS”). Specifically excluded from the scope of the order are mechanical pencils, cosmetic pencils, pens, non-cased crayons (wax), pastels, charcoals, chalks, and pencils produced under U.S. patent number 6,217,242, from paper infused with scents by the means covered in the above-referenced patent, thereby having odors distinct from those that may emanate from pencils lacking the scent infusion. Also excluded from the scope of the order are pencils with all of the following physical characteristics: (1) length: 13.5 or more inches; (2) sheath diameter: not less than one-and-one quarter inches at any point (before sharpening); and (3) core length: not more than 15 percent of the length of the pencil.

In addition, pencils with all of the following physical characteristics are excluded from the scope of the order: novelty jumbo pencils that are octagonal in shape, approximately ten inches long, one inch in diameter before sharpening, and three-and-one eighth inches in circumference, composed of turned wood encasing one-and-one half inches of sharpened lead on one end and a rubber eraser on the other end.

Although the HTSUS subheading is provided for convenience and customs purposes, the written description of the scope of the order is dispositive.

Analysis of Comments Received

All issues raised in the parties' case and rebuttal briefs commenting on this administrative review are addressed in the memorandum from Stephen J. Claeys, Deputy Assistant Secretary for Import Administration, to David M. Spooner, Assistant Secretary for Import Administration, “Issues and Decision Memorandum for the Final Results of the 2004-2005 Administrative Review of the Antidumping Duty Order on Certain Cased Pencils from the People's Republic of China,” which is dated concurrently with, and hereby adopted by, this notice (“Issues and Decision Memorandum”). A list of the issues that parties have raised and to which we have responded, all of which are in the Issues and Decision Memorandum, is attached to this notice as an Appendix. Parties can find a complete discussion of all issues raised in this review, and the corresponding recommendations, in the public Issues and Decision Memorandum that is on file in the Central Records Unit, Room B-099 of the main Department of Commerce building. In addition, a complete version of the Issues and Decision Memorandum can be accessed directly on the internet at http://ia.ita.doc.gov/frn/index.html. The paper copy and electronic version of the Issues and Decision Memorandum are identical in content.

Changes Since the Preliminary Results

Based on our analysis of the comments received, we made the following changes in calculating dumping margins: (1) we adjusted the surrogate value for slats to reflect wood loss in producing slats from lumber; (2) we valued labor using the most recently calculated wage rate found on the Department's website; and (3) we valued brokerage and handling services using a different surrogate source. In addition, based on the additional information provided by CFP-Three Star in its December 15, 2006 submission, we recalculated supplier distances for foil and erasers. For further details, see the “CFP-Three Star Calculation Memorandum for Final Results of Administrative Review,” dated May 7, 2007.

Surrogate Country

In the Preliminary Results, we stated that we treat the PRC as a non-market economy (“NME”) country and, therefore, we calculated normal value in accordance with section 773(c) of the Act, which applies to NME countries. Also, we stated that we selected India as the appropriate surrogate country to use in this review for the following reasons: (1) it is a significant producer of merchandise comparable to subject merchandise; and (2) it is at a level of economic development comparable to the PRC, pursuant to section 773(c)(4) of the Act. See Preliminary Results, 71 FR at 70953-70954. For the final results of review, we have continued to use the same surrogate country that we used in the Preliminary Results.

Separate Rates

In proceedings involving NME countries, the Department begins with a rebuttable presumption that all companies within the country are subject to government control and, thus, should be assigned a single antidumping duty deposit rate. It is the Department's policy to assign all exporters of merchandise subject to review in an NME country this single rate unless an exporter can demonstrate that it is sufficiently independent so as to be entitled to a separate rate.

In the Preliminary Results, we found that Dixon, Shandong Rongxin, and the collapsed entity CFP-Three Star demonstrated their eligibility for separate-rate status. In these final results of review, we continue to find that the evidence placed on the record of this review by the above-referenced companies demonstrates an absence of government control, both in law and in fact, with respect to their exports of the merchandise under review. Thus, we have determined that Dixon, Shandong Rongxin, and CFP-Three Star are eligible for separate-rates.

Final Results of Review

We determine that the following weighted-average dumping margins exist for the period December 1, 2004, through November 30, 2005:

Manufacturer/exporter | Margin (percent)
China First Pencil Company, Ltd. | 2.66
(which includes its affiliates China First Pencil Fang Zheng Co., | 2.66
Shanghai First Writing Instrument Co., Ltd., | 2.66
Shanghai Great Wall Pencil Co., Ltd., and | 2.66
Shanghai Three Star Stationery Industry Corp.)⁶ | 2.66
Beijing Dixon Stationery Company, Ltd. | 2.66
Shandong Rongxin Import & Export Co., Ltd. | 2.66
⁶ As noted in the Preliminary Results for this review, we have determined China First Pencil Company, Ltd., China First Pencil Fang Zheng Co., Shanghai First Writing Instrument Co., Ltd., Shanghai Great Wall Pencil Co., Ltd., and Shanghai Three Star Stationery Industry Corp. constitute a single entity. See also Certain Cased Pencils from the People's Republic of China; Final Results and Partial Rescission of Antidumping Duty Administrative Review, 70 FR 42301 (July 22, 2005) (no change in amended final determination).

Assessment Rates

The Department has determined, and U.S. Customs and Border Protection (“CBP”) shall assess, antidumping duties on all appropriate entries. For CFP-Three Star, we calculated customer-specific antidumping duty assessment amounts based on the ratio of the total amount of antidumping duties calculated for the examined sales of subject merchandise to the total quantity of subject merchandise sold in those transactions. We calculated assessment amounts in this fashion, as opposed to calculating importer-specific ad valorem rates in accordance with 19 CFR 351.212(b)(1), because the entered values and importers of record for CFP-Three Star's reported U.S. sales are not on the record. Where the customer-specific assessment rate is above de minimis, we will instruct CBP to assess the customer-specific rate uniformly on the entered customs value of all POR entries of subject merchandise sold to the customer. To determine whether the per-unit duty assessment rates were de minimis (i.e., less than 0.50 percent ad valorem), in accordance with the requirement set forth in 19 CFR 351.106(c)(2), we calculated customer-specific ad valorem ratios based on the export prices. For Dixon and Shandong Rongxin (respondents that are being assigned the dumping margin calculated for CFP-Three Star), we will instruct CBP to assess antidumping duties on entries of merchandise from these companies equal to the dumping margin these companies have received in these final results of review, regardless of the importer of, or customer who purchased, their subject merchandise. The Department intends to issue assessment instructions to CBP 15 days after the date of publication of the final results of this review.

Cash-Deposit Requirements

The following deposit requirements will apply to all shipments of certain cased pencils from the PRC entered, or withdrawn from warehouse, for consumption on or after the publication date of this notice of final results of administrative review, as provided by section 751(a)(1) of the Act: (1) the cash deposit rates for the companies listed in the “Final Results of Review” section above will be the rates for those firms established in the final results of this administrative review; (2) for any previously reviewed or investigated PRC or non-PRC exporter, not covered in this review, with a separate rate, the cash deposit rate will be the company-specific rate established in the most recent segment of this proceeding; (3) for all other PRC exporters, the cash deposit rate will be the PRC-wide rate, which is 114.9 percent; and (4) the cash deposit rate for any non-PRC exporter of subject merchandise from the PRC will be the rate applicable to the PRC exporter that supplied that exporter. These cash deposit requirements shall remain in effect until further notice.

Reimbursement of Duties

This notice serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Administrative Protective Orders

This notice also serves as a reminder to parties subject to administrative protective orders (“APO”) of their responsibility concerning the return or destruction of proprietary information disclosed under APO in accordance with 19 CFR 351.305. Timely written notification of the return/destruction of APO materials or conversion to judicial protective order is hereby requested. Failure to comply with the regulations and terms of an APO is a violation which is subject to sanction.

We are issuing and publishing this determination and notice in accordance with sections 751(a)(1) and 777(i)(1) of the Act.

Dated: May 3, 2007.
David M. Spooner,
Assistant Secretary for Import Administration.

APPENDIX

List of Issues in the Issues and Decision Memorandum

Comment 1: Whether the Department Used the Appropriate Size of Lumber as a Surrogate for Pencil Slats

Comment 2: Whether the Department Should Adjust the Pencil Slat Surrogate Value to Account for Wood Loss

Comment 3: Whether the Department Should Use the Price of Kiln-Dried or Green Lumber to Value Pencil Slats

Comment 4: Whether the Department Used the Appropriate Surrogate Financial Ratios

Comment 5: Whether the Department Properly Accounted for Labor-Related Expenses in Calculating Financial Ratios

Comment 6: Whether the Department Used an Appropriate Labor Rate

Comment 7: Whether the Department Used an Appropriate Surrogate Value for Brokerage and Handling Services

Comment 8: Whether the Department Used an Appropriate Surrogate Value for Paper Wrap

Comment 9: Selection of the Appropriate Rate to Assign to a Separate Rate/Section A Respondent

[FR Doc. E7-9217 Filed 5-11-07; 8:45 am]

BILLING CODE: 3510-DS-S